DEPARTMENT OF AGRICULTURE

Animal and Plant Health Inspection Service

7 CFR Part 301

[Docket No. APHIS-2012-0079]

Golden Nematode; Removal of Regulated Areas in Livingston and Steuben Counties, NY

AGENCY: Animal and Plant Health Inspection Service, USDA.

ACTION: Affirmation of interim rule as final rule.

SUMMARY: We are adopting as a final rule, without change, an interim rule that amended the golden nematode regulations by removing areas in Livingston and Steuben Counties in New York from the list of generally infested areas. Surveys have shown that certain areas in these two counties are free of golden nematode, and we determined that regulation of these areas was no longer necessary. As a result of that action, areas in Livingston and Steuben Counties in New York that had been listed as generally infested were removed from the list of areas regulated for golden nematode.

DATES: Effective on May 13, 2013, we are adopting as a final rule, without change, the interim rule published at 78 FR 1713-1715 on January 9, 2013, and corrected at 78 FR 3827-3828 on January 17, 2013.

FOR FURTHER INFORMATION CONTACT: Mr. Jonathan M. Jones, National Program Manager, Emergency and Domestic Programs, Plant Protection and Quarantine, APHIS, 4700 River Road, Unit 160, Riverdale, MD 20737; (301) 851-2128.

SUPPLEMENTARY INFORMATION:

Background

In an interim rule ¹ effective and published in the Federal Register on January 9, 2013 (78 FR 1713-1715, Docket No. APHIS-2012-0079) and corrected on January 17, 2013 (78 FR 3827-3828), we amended the golden nematode regulations in 7 CFR part 301 by removing areas in Livingston and Steuben Counties in New York from the list of generally infested areas.

¹ To view the interim rule, go to http://www.regulations.gov/#!docketDetail;D=APHIS-2012-0079.

Comments on the interim rule were required to be received on or before March 11, 2013. We did not receive any comments. Therefore, for the reasons given in the interim rule, we are adopting the interim rule as a final rule without change.

This action also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301, that was published at 78 FR 1713-1715 on January 9, 2013, and that was corrected at 78 FR 3827-3828 on January 17, 2013.

Done in Washington, DC, May 8, 2013.
Kevin Shea,
Acting Administrator, Animal and Plant Health Inspection Service.

[FR Doc. 2013-11323 Filed 5-10-13; 8:45 am]

BILLING CODE 3410-34-P